DEPARTMENT OF ENERGY

Federal Energy Regulatory Commission

[Docket No. ER00-3251-000]

Exelon Generating Company, L.L.C.; Notice of Issuance of Order

November 9, 2000.

Exelon Generating Company, L.L.C. (Exelon) filed with the Commission a rate schedule under which Exelon will engage in wholesale electric power and energy transactions at market-based rates. In its filing, Exelon also requested certain waivers and authorizations. In particular, Exelon requested that the Commission grant blanket approval under 18 CFR Part 34 of all future issuances of securities and assumptions of liabilities by Exelon. On November 8, 2000, the Commission issued an Order Granting Market-Based Rate Authority, Accepting Tariffs, Service Agreement And Power Purchase Agreement, And Waiving Code of Conduct (Order), in the above-docketed proceeding.

The Commission's November 8, 2000 Order granted the request for blanket approval under Part 34, subject to the conditions found in Ordering Paragraphs (C), (D), and (F):

(C) Within 30 days of the date of issuance of this order, any person desiring to be heard or to protest the Commission's blanket approval of issuances of securities or assumptions of liabilities by Exelon should file a motion to intervene or protest with the Federal Energy Regulatory Commission, 888 First Street, NE., Washington, DC 20426, in accordance with Rules 211 and 214 of the Commission's Rules of Practice and Procedure, 18 CFR 385.211 and 385.214.

(D) Absent a request to be heard within the period set forth in Ordering Paragraph (C) above, Exelon is hereby authorized to issue securities and assume obligations and liabilities as guarantor, indorser, surety or otherwise in respect of any security of another person; provided that such issue or assumption is for some lawful object within the corporate purposes of Exelon, compatible with the public interest, and reasonably necessary or appropriate for such purposes.

(F) The Commission reserves the right to modify this order to require a further showing that neither public nor private interests will be adversely affected by continued Commission approval of Exelon's issuances of securities or assumptions of liabilities * * *.

Notice is hereby given that the deadline for filing motions to intervene or protests, as set forth above, is December 8, 2000.

Copies of the full text of the Order are available from the Commission's Public Reference Branch, 888 First Street, NE., Washington, DC 20426. The Order may also be viewed on the Internet at http://www.ferc.fed.us/online/rims.htm (call 202-208-2222 for assistance).

Linwood A. Watson, Jr.,
Acting Secretary.

[FR Doc. 00-29338 Filed 11-15-00; 8:45 am]

BILLING CODE 6717-01-M